ENVIRONMENTAL PROTECTION AGENCY

[EPA-HQ-OPP-2007-0941; FRL-8389-2]

Carbaryl RED Amendment and Response to Petition to Cancel Registrations; Notice of Availability

AGENCY: Environmental Protection Agency (EPA).

ACTION: Notice.

SUMMARY: This notice announces the availability of an amendment to EPA's Reregistration Eligibility Decision (RED) for Carbaryl, and EPA's response to a petition from the Natural Resources Defense Council (NRDC), insofar as the petition seeks to have EPA cancel all registrations for carbaryl. In the carbaryl RED amendment, EPA is modifying certain worker risk mitigation measures that were imposed as a result of the 2004 Interim RED for the pesticide carbaryl. EPA is amending the carbaryl RED to incorporate the revised occupational exposure and risk assessment for carbaryl. EPA reevaluated the carbaryl risk assessments and regulatory decision in response to public comments received from numerous parties, new data submitted by the technical registrant, Bayer CropSciences, and new science and new methodologies developed in the time between the completion of the Interim RED for carbaryl and the completion of the cumulative risk assessment for the N-methyl carbamate group of pesticides. This notice also announces the availability of EPA's response to a petition from NRDC insofar as it seeks to have EPA cancel all uses of carbaryl under the Federal Insecticide, Fungicide, and Rodenticide Act (FIFRA). Elsewhere in today's Federal Register, EPA is publishing its response to NRDC's petition insofar as it seeks to have EPA revoke all tolerances for carbaryl under the Federal Food, Drug, and Cosmetic Act (FFDCA).

FOR FURTHER INFORMATION CONTACT: Christina Scheltema, Special Review and Reregistration Division (7508C), Office of Pesticide Programs, Environmental Protection Agency, 1200 Pennsylvania Ave., NW., Washington, DC 20460-0001; telephone number: (703) 308-2201; fax number: (703) 308-2201; e-mail address: scheltema.christina@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0941. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

This notice announces the availability of an amendment to EPA's Reregistration Eligibility Decision (RED) for Carbaryl. EPA is amending the carbaryl RED to incorporate the revised occupational exposure and risk assessment for carbaryl, which was not included in the September 2007 carbaryl RED. As a result, EPA is modifying certain worker risk mitigation measures that were imposed in the 2004 Interim RED for the pesticide carbaryl.

Under section 4 of FIFRA, EPA is reevaluating existing pesticides to ensure that they meet current scientific and regulatory standards. In 2007, EPA issued a RED for carbaryl under section 4(g)(2)(A) of FIFRA. In 2004, EPA issued an interim RED for carbaryl. In response to a notice of availability published in the Federal Register of October 27, 2004 (69 FR 62663) (FRL-7679-9), the Agency received comments from the carbaryl registrant and others, including NRDC.

This notice also announces the availability of EPA's response to a petition submitted by NRDC insofar as the petition seeks to have EPA cancel all registrations for carbaryl. (EPA's response to this petition is available in the carbaryl RED docket, EPA-HQ-OPP-2007-0941.) Elsewhere in today's Federal Register, EPA is publishing its response to NRDC's petition insofar as it seeks to have EPA revoke all tolerances for carbaryl under FFDCA. (See docket EPA-HQ-OPP-2008-0347.)

B. What is the Agency's Authority for Taking this Action?

Section 4(g)(2) of FIFRA, as amended, directs that, after submission of all data concerning a pesticide active ingredient, “the Administrator shall determine whether pesticides containing such active ingredient are eligible for reregistration,” before calling in product-specific data on individual end-use products and either reregistering products or taking other “appropriate regulatory action.”

List of Subjects

Environmental protection, Carbaryl, Pesticides.

Dated: October 21, 2008.
Steven Bradbury,
Director, Special Review and Reregistration Division, Office of Pesticide Programs.

[FR Doc. E8-25664 Filed 10-28-08; 8:45 am]

BILLING CODE 6560-50-S